ENVIRONMENTAL PROTECTION AGENCY

40 CFR Part 52

[EPA-R07-OAR-2008-0103; FRL-8549-7]

Approval and Promulgation of Implementation Plans; State of Missouri

AGENCY: Environmental Protection Agency (EPA).

ACTION: Proposed rule.

SUMMARY: EPA proposes to approve a State Implementation Plan (SIP) revision to exempt initial fueling of motor vehicles at automobile assembly plants in the St. Louis metropolitan area from the Missouri Performance Evaluation Test Procedures (MO/PETP) approval test requirements. MO/PETP requirements were initially implemented to maintain the integrity of local air quality by regulating gasoline fueling emissions. The Missouri Department of Natural Resources (MDNR) provided an air quality analysis and it was determined that removal of these test requirements for initial fueling at automobile assembly plants will not adversely affect air quality in the St. Louis area. In addition, certain portions of the rule were renumbered and reformatted. This revision will ensure consistency between the state and the federally-approved rules.

DATES: Comments on this proposed action must be received in writing by May 2, 2008.

ADDRESSES: Submit your comments, identified by Docket ID No. EPA-R07-OAR-2008-0103, by mail to Amy Algoe-Eakin, Environmental Protection Agency, Air Planning and Development Branch, 901 North 5th Street, Kansas City, Kansas 66101. Comments may also be submitted electronically or through hand delivery/courier by following the detailed instructions in the ADDRESSES section of the direct final rule located in the rules section of this Federal Register.

FOR FURTHER INFORMATION CONTACT: Amy Algoe-Eakin at (913) 551-7942, or by e-mail at algoe-eakin.amy@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: March 20, 2008.
William Rice,
Acting Regional Administrator, Region 7.

[FR Doc. E8-6659 Filed 4-1-08; 8:45 am]

BILLING CODE 6560-50-P